DEPARTMENT OF HEALTH AND HUMAN SERVICES

National Institutes of Health

Eunice Kennedy Shriver National Institute of Child Health & Human Development; Notice of Meeting

Pursuant to section 10(d) of the Federal Advisory Committee Act, as amended (5 U.S.C. App.), notice is hereby given of a meeting of the National Advisory Child Health and Human Development Council.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The intramural programs and projects and the discussions could disclose confidential trade secrets or commercial property such as patentable material, and personal information concerning individuals associated with the intramural programs and projects, the disclosure of which would constitute a clearly unwarranted invasion of personal privacy.

Name of Committee: National Advisory Child Health and Human Development Council NACHHD Subcommittee on Planning and Policy.

Date: August 24, 2009.

Open: 10 a.m. to 11 a.m.

Agenda: Topics to be discussed include: (1) Report of the Director; (2) Budget Updates; (3) Legislative Updates.

Place: National Institutes of Health, Building 31, 31 Center Drive, Room 2A03, Bethesda, MD 20892. (Telephone Conference Call).

Closed: 11 a.m. to 12 p.m.

Agenda: To review and evaluate the Division of Intramural Research site visit report.

Place: National Institutes of Health, Building 31, 31 Center Drive, Room 2A03 Bethesda, MD 20892. (Telephone Conference Call).

Contact Person: Elizabeth Wehr, Senior Public Health Analyst, Office of Science Policy, Analysis and Communication, NICHD/NIH/DHHS, 31 Center Drive, Suite 2A-18, Bethesda, MD 20892, 301-496-0805.

This notice is being published less than 15 days prior to the meeting due to the timing limitations imposed by the Executive Secretary's need for confirmation from subcommittee members on their availability to participate in this meeting. Information is also available on the Institute's/Center's home page: http://www.nichd.nih.gov/about/nachhd.htm, where an agenda and any additional information for the meeting will be posted when available.

(Catalogue of Federal Domestic Assistance Program Nos. 93.864, Population Research; 93865, Research for Mothers and Children; 93.929, Center for Medical Rehabilitation Research; 93.209, Contraception and Infertility Loan Repayment Program, National Institutes of Health, HHS).

Dated: July 28, 2009.
Anna Snouffer,
Deputy Director, Office of Federal Advisory Committee Policy.

[FR Doc. E9-18487 Filed 8-4-09; 8:45 am]

BILLING CODE 4140-01-M